DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 71 FR 50065, dated August 14, 2006), is amended to reflect the establishment of the Healthy Aging Program within the Division of Adult and Community Health, National Center for Chronic Disease Prevention and Health Promotion, Coordinating Center for Health Promotion, Centers for Disease Control and Prevention.

Section C-B, Organization and Functions, is hereby amended as follow:

After the Office of the Director (CUCE1), Division of Adult and Community Health (CUCE) National Center for Chronic Disease Prevention and Health Promotion (CUC), insert the following:

Healthy Aging Program (CUCE2). (1) Serves as an active link between public health and aging services networks to provide leadership in health promotion and disease prevention for older adults; (2) provides scientific expertise and rigor to health promoting strategies and interventions through the use of data and research; (3) disseminates prevention messages, programs, and policies; (4) contributes to the capacity of systems and organizations to improve the health of older adults; (5) administers grants, cooperative agreements, contracts, and other procurement requests to implement evidence-based health promotion interventions and disseminates health aging messages; (6) promotes expanding prevention research for older adults by supporting the Prevention Research Centers Healthy Aging Research Network (PRC-HAN); (7) administers data into action through the development of The State of Aging and Health in America report series; (8) collaborates with aging organizations to expand the reach to professionals, the public, and the media through the development and evaluation of web-based health promotion modules and media backgrounders on various older adult health topics; and (9) directs and disseminates the national public health and action plan for brain health as part of the Alzheimer's disease segment of the Healthy Aging Program.

Delete in its entirety the title and functional statement for the Healthcare and Aging Studies Branch (CUCEC), and insert the following: Arthritis, Epilepsy and Quality of Life Branch (CUCEC). (1) Directs and supports activities that increase the overall quality of life for people affected by arthritis; (2) directs and supports activities that improve medical care, improve communication and combat stigma, enhance self-management, support surveillance and prevention research, and increase public awareness and knowledge about epilepsy; (3) directs and administers the development of a national, state, and local surveillance system of tracking health-related quality of life (HRQOL) among U.S. residents; (4) administers grants, cooperative agreements, contracts, and other procurement requests to implement evidence-based health promotion interventions and disseminate arthritis prevention and epilepsy education messages; (5) develops, validates, and refines HRQOL measure for use in tracking and prevention research at each life stage; (6) directs and coordinates the evaluation of community and state-based intervention programs for arthritis and epilepsy; (7) developes arthritis epidemiology capacity and other arthritis programmatic capabilities in state health department settings; and (8) disseminates health promotion and disease prevention information through national advocacy partners for arthritis and epilepsy.

Dated: October 12, 2006.
William H. Gimson,
Chief Operating Officer, Centers for Disease Control and Prevention (CDC).

[FR Doc. 06-8869 Filed 10-24-06; 8:45 am]

BILLING CODE 4160-18-M